FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: FEMA Contract Clause—Accessibility of Meetings, Conferences and Seminars to Persons with Disabilities.

Type of Information Collection: Extension of a currently approved collection.

OMB Number: 3067-0213.

Abstract: Contractors who plan meetings, conferences or seminars for FEMA must submit a plan to the Contracting Officer detailing how the minimum accessibility standards for the disabled set forth in the contract clause will be met.

Affected Public: Business or Other For-Profit.

Number of Respondents: 10.

Estimated Time per Respondent: 3 hours.

Estimated Total Annual Burden Hours: 30 hours.

Frequency of Response: On Occasion.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW., Room 316, Washington, DC 20472, telephone number (202) 646-2625 or facsimile number (202) 646-3347, or email muriel.anderson@fema.gov.

Thomas F. Behm,
Acting Director, Program Services Division, Operations Support Directorate.

[FR Doc. 01-17026 Filed 7-6-01; 8:45 am]

BILLING CODE 6718-01-P